DEPARTMENT OF AGRICULTURE

Food Safety and Inspection Service

9 CFR Part 430

[Docket No. 97-013FE]

RIN 0583-AC46

Control of Listeria Monocytogenes in Ready-to-Eat Meat and Poultry Products

AGENCY: Food Safety and Inspection Service, USDA.

ACTION: Interim final rule; extension of comment period.

SUMMARY: The Food Safety and Inspection Service (FSIS) is extending the public comment period on the interim final rule “Control of Listeria monocytogenes in Ready-to-Eat Meat and Poultry Products” (68 FR 34208; June 6, 2003). The comment period on the rule will end on the same date as the comment period on the Agency report “Assessing the Effectiveness of the Listeria monocytogenes Interim Final Rule” announced in a document published elsewhere in this issue of the Federal Register.

DATES: Comments on the interim final rule must be received on or before January 31, 2005.

ADDRESSES: Comments may be submitted by postal mail/commercial delivery or by e-mail. If you use postal mail/commercial delivery, please send the written comment to FSIS Docket Clerk Docket No. 97-013F, U.S. Department of Agriculture, Food Safety and Inspection Service, Room 102, Cotton Annex, 300 12th Street, SW., Washington DC 20250-3700. Please state that your comment refers to Docket No. 97-013F. Comments may also be sent electronically. If you use e-mail, address your comment to FSIS.RegulationsComments@usda.gov. For more information on e-rulemaking, or to view all open regulations, go to Regulations.gov. Your comment must be contained in the body of your message; do not send attached files. Please include your name and address in your message and include the Docket No. 97-013F on the subject line. All comments will be available for public inspection in the Docket Clerk's Office between 8:30 a.m. and 3:30 p.m., Monday through Friday, except Federal holidays. The comments may also be viewed on the Agency's Web site at http://www.fsis.usda.gov/regulations/Federal_Register_Publications_&_Related_Documents/.

FOR FURTHER INFORMATION CONTACT: Lynn E. Dickey, Ph.D., Director, Regulations and Petitions Policy Staff, Office of Policy, Program, and Employee Development, Food Safety and Inspection Service, U.S. Department of Agriculture, (202) 720-5627.

Done in Washington, DC, on November 15, 2004.
Barbara J. Masters,
Acting Administrator.

[FR Doc. 04-26516 Filed 12-1-04; 8:45 am]

BILLING CODE 3410-DM-P